SECURITIES AND EXCHANGE COMMISSION

[File No. 500-1]

Supatcha Resources Inc.; Order of Suspension of Trading

December 17, 2010.

It appears to the Securities and Exchange Commission that there is a lack of current and accurate information concerning the securities of Supatcha Resources Inc. (“Supatcha”) because of questions regarding the accuracy of assertions by Supatcha in public statements to investors concerning, among other things: (1) A geological report on certain mining prospects in Ukraine; and (2) a tender offer for Supatcha's outstanding shares.

The Commission is of the opinion that the public interest and the protection of investors require a suspension of trading in the securities of the above-listed company.

Therefore, it is ordered, pursuant to Section 12(k) of the Securities Exchange Act of 1934, that trading of the securities of the above-listed company is suspended for the period from 9:30 a.m. EST, December 17, 2010 through 11:59 p.m. EST, on December 31, 2010.

By the Commission.
Elizabeth M. Murphy,
Secretary.

[FR Doc. 2010-32096 Filed 12-17-10; 4:15 pm]

BILLING CODE 8011-01-P